DEPARTMENT OF ENERGY

Federal Energy Regulatory Commission

[Project No.2899-105 Idaho]

Idaho Power Company; Notice of Availability of Environmental Assessment

May 24, 2002.

In accordance with the National Environmental Policy Act of 1969 and the Federal Energy Regulatory Commission's regulations, 18 CFR part 380 (Order No. 486, 52 FR 47910), the Office of Energy Projects has reviewed Idaho Power Company's application for license amendment for extension of temporary amendment of license, approved by the May 8, 2001, order, at the Milner Hydroelectric project, located on the Snake River in Twin Falls and Cassia Counties, Idaho, and has prepared an environmental assessment (EA). The project includes about 109 acres of federal land administered by the Bureau of Land Management.

The EA contains the staff's analysis of the potential environmental impacts of the proposed amendment and concludes that the approval of the proposed amendment would not constitute a major federal action that would significantly affect the quality of the human environment.

The EA is attached to a Commission order issued on May 21, 2002 for the above application. Copies of the EA can be obtained by calling the Commission's Public Reference Room at (202) 208-1371. Copies of the EA can also be obtained through the Commission's homepage at http://www.ferc.gov.

For further information, contact Kenneth Hogan at (202) 208-0434.

Magalie R. Salas,
Secretary.

[FR Doc. 02-13665 Filed 5-30-02; 8:45 am]

BILLING CODE 6717-01-P